SMALL BUSINESS ADMINISTRATION

[License No. 03/03-0247]

Solutions Capital I, L.P.; Notice Seeking Exemption Under the Small Business Investment Act, Conflicts of Interest

Notice is hereby given that Solutions Capital I, L.P., 1100 Wilson Blvd., Suite 3000, Arlington, VA 22209, a Federal Licensee under the Small Business Investment Act of 1958, as amended (“the Act”), in connection with the financing of a small concern, has sought an exemption under § 312 of the Act and § 107.730, Financings which constitute conflicts of interest, of the Small Business Administration Rules and Regulations (13 CFR 107). Solutions Capital I, L.P., proposes to acquire debt financing from MCG Capital Corporation in Advanced Sleep Concepts, Inc., 195 Chatillon Road NE., Rome, GA, 30162. The financing is contemplated to provide growth capital for the company.

The financing is brought within the purview of § 107.730(a) of the Regulations because MCG Capital Corporation, an Associate of Solutions Capital I, L.P., has a greater than 10% equity interest in Advanced Sleep Concepts, Inc., thereby making Advanced Sleep Concepts, Inc., an Associate of Solutions Capital I, L.P., as defined in § 107.50 of the Regulations.

Notice is hereby given that any interested person may submit written comments on the transaction to the Associate Administrator for Investment, U.S. Small Business Administration, 409 Third Street SW., Washington, DC 20416.

Sean J. Greene,
Associate Administrator for Investment and Innovation.

[FR Doc. 2012-4391 Filed 2-24-12; 8:45 am]

BILLING CODE P